DEPARTMENT OF TRANSPORTATION

Surface Transportation Board

[STB Finance Docket No. 34745]

Penn Eastern Rail Lines, Inc.—Operation Exemption—Expressway 95 Industrial Park

Penn Eastern Rail Lines, Inc. (Penn Eastern), a Class III rail carrier, has filed a verified notice of exemption under 49 CFR 1150.41 to operate as a rail common carrier, approximately 1.15 miles of track and right-of-way on easements in the Expressway 95 Industrial Park (the Park) in Bensalem, Bucks County, PA. The track known as the Bensalem Branch is located along the east side of Amtrak's Northeast Corridor (NEC) at ATK milepost 70.2, between Philadelphia, PA, and Trenton, NJ.¹

¹ Penn Eastern notes that Consolidated Rail Corporation (Conrail) formerly operated this track as exempt industrial trackage under 49 U.S.C. 10906 until the last customer ceased rail operations in 2002. Penn Eastern states that the track connects with portions of the NEC over which Conrail currently has operating rights. Penn Eastern also states that the line will initially serve three customers within the Park, but that it eventually expects to attract additional customers.

Penn Eastern certifies that its projected annual revenues as a result of this transaction will not result in the creation of a Class I or Class II rail carrier, and that its annual revenues will not exceed $5 million. The transaction was expected to be consummated on August 26, 2005, the effective date of the exemption (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 34745, must be filed with the Surface Transportation Board, 1925 K Street, NW., Washington, DC 20423-0001. In addition, a copy of each pleading must be served on John D. Heffner, 1920 N Street, NW., Suite 800, Washington, DC 20036.

Board decisions and notices are available on our Web site at http://www.stb.dot.gov.

Decided: September 9, 2005.
By the Board, David M. Konschnik, Director, Office of Proceedings.
Vernon A. Williams,
Secretary.

[FR Doc. 05-18352 Filed 9-15-05; 8:45 am]

BILLING CODE 4915-01-P